DEPARTMENT OF LABOR

Occupational Safety and Health Administration

[Docket No. OSHA-2006-0042]

Canadian Standards Association; Application for Expansion of Recognition

AGENCY: Occupational Safety and Health Administration (OSHA), Labor.

ACTION: Notice.

SUMMARY: This notice announces the application of the Canadian Standards Association for expansion of its recognition and presents the Agency's preliminary finding to grant this request. OSHA also is seeking comment on the equivalency of the ANSI/AAMI ES60601-1:2005 and UL 60601-1 product-safety test standards.

DATES: Submit information or comments, or any request for extension of the time to comment, on or before May 11, 2010. All submissions must bear a postmark or provide other evidence of the submission date.

ADDRESSES: Submit comments by any of the following methods:

Electronically: Submit comments electronically at http://www.regulations.gov, which is the Federal eRulemaking Portal. Follow the instructions online for making electronic submissions.

Fax: If submissions, including attachments, are no longer than 10 pages, commenters may fax them to the OSHA Docket Office at (202) 693-1648.

Mail, hand delivery, express mail, or messenger or courier service: Submit one copy of the comments to the OSHA Docket Office, Docket No. OSHA-2006-0042, U.S. Department of Labor, Room N-2625, 200 Constitution Avenue, NW., Washington, DC 20210. Deliveries (hand, express mail, and messenger and courier service) are accepted during the Department of Labor's and Docket Office's normal business hours, 8:15 a.m.-4:45 p.m., e.t.

Instructions: All submissions must include the Agency name and the OSHA docket number (i.e., OSHA-2006-0042). OSHA will place all submissions, including any personal information provided, in the public docket without revision, and these submissions will be made available online at http://www.regulations.gov.

Docket: To read or download submissions or other material in the docket, go to http://www.regulations.gov or the OSHA Docket Office at the address above. All documents in the docket are listed in the http://www.regulations.gov index; however, some information (e.g., copyrighted material) is not publicly available to read or download through the Web site. All submissions, including copyrighted material, are available for inspection and copying at the OSHA Docket Office.

Extension of comment period: Submit requests for an extension of the comment period on or before May 11, 2010 to the Office of Technical Programs and Coordination Activities, NRTL Program, Occupational Safety and Health Administration, U.S. Department of Labor, 200 Constitution Avenue, NW., Room N-3655, Washington, DC 20210, or by fax to (202) 693-1644.

FOR FURTHER INFORMATION CONTACT: MaryAnn Garrahan, Director, Office of Technical Programs and Coordination Activities, NRTL Program, Occupational Safety and Health Administration, U.S. Department of Labor, 200 Constitution Avenue, NW., Room N-3655, Washington, DC 20210; telephone: (202) 693-2110. For information about the NRTL Program, go to http://www.osha.gov, and select “N” in the site index.

SUPPLEMENTARY INFORMATION:

Notice of Expansion Application

The Occupational Safety and Health Administration (OSHA) is providing notice that the Canadian Standards Association (CSA) applied for expansion of its current recognition as a Nationally Recognized Testing Laboratory (NRTL). CSA's expansion request covers the use of additional test standards.

OSHA recognition of an NRTL signifies that the organization meets the legal requirements specified in 29 CFR 1910.7. Recognition is an acknowledgment that the organization can perform independent safety testing and certification of the specific products covered within its scope of recognition, and is not a delegation or grant of government authority. As a result of recognition, employers may use products approved by the NRTL to meet OSHA standards that require product testing and certification.

The Agency processes applications by an NRTL for initial recognition, or for an expansion or renewal of this recognition, following requirements in Appendix A to 29 CFR 1910.7. This appendix requires that the Agency publish two notices in the Federal Register in processing an application. In the first notice, OSHA announces the application and provides its preliminary finding, and, in the second notice, the Agency provides its final decision on the application. These notices set forth the NRTL's scope of recognition or modifications of that scope. OSHA maintains an informational Web page for each NRTL that details its scope of recognition. These pages can be accessed from the Web site at http://www.osha.gov/dts/otpca/nrtl/index.html. Each NRTL's scope of recognition has three elements: (1) The type of products the NRTL may test, with each type specified by its applicable test standard; (2) the recognized site(s) that has/have the technical capability to perform the testing and certification activities for test standards within the NRTL's scope; and (3) the supplemental program(s) that the NRTL may use, each of which allows the NRTL to rely on other parties to perform activities necessary for product testing and certification.

General Background on the Application

CSA submitted an application, dated June 25, 2008, to expand its recognition to include five additional test standards. (Ex. 2―CSA expansion application dated 6/25/2008.) The NRTL Program staff determined that four of these standards are “appropriate test standards” within the meaning of 29 CFR 1910.7(c). In connection with this request, NRTL Program staff did not perform an onsite review of CSA's recognized sites. The staff only performed a comparability analysis,¹ which determined that CSA has the capabilities to perform the testing to the four standards, which are listed below. As a result, the Agency would approve these four test standards for the expansion.

¹ This analysis involves determining whether the testing and evaluation requirements of test standards already in an NRTL's scope are comparable to the requirements in the standards requested by the NRTL.

CSA seeks expansion of its recognition for testing and certification of products to the following test standards: ²

² The designations and titles of these test standards were current at the time of the preparation of this notice.

UL 498A Current Taps and Adapters.

UL 515 Electrical Resistance Heat Tracing for Commercial and Industrial Applications.

UL 1673 Electric Space Heating Cables.

UL 1977 Component Connectors for Use in Data, Signal, Control and Power Applications.

CSA amended its application on October 20, 2009 (see Ex. 3―CSA amendment dated 10/20/2009), to request recognition for the following additional test standard based on its present recognition for UL 60601-1:

ANSI/AAMI ES60601-1:2005 Medical Electrical Equipment—Part 1: General Requirements for Basic Safety and Essential Performance.

In its request, CSA explained that the AAMI standard will be replacing UL 60601-1, and that all NRTLs recognized for UL 60601-1 should have the AAMI standard added to their scope. OSHA requests comments on the equivalency of these two standards. If the comments or other information demonstrate that the standards are substantially equivalent, then OSHA will contact each NRTL that is currently recognized for UL 60601-1 to determine whether to add the AAMI standard to its scope.

OSHA's recognition of CSA, or any NRTL, for a particular test standard is limited to equipment or materials (i.e., products) for which OSHA standards require third-party testing and certification before use in the workplace. Consequently, if a test standard also covers any product for which OSHA does not require such testing and certification, an NRTL's scope of recognition does not include that product.

The test standards listed above may be approved as American National Standards by the American National Standards Institute (ANSI). However, for convenience, we may use the designation of the standards-developing organization for the standard as opposed to the ANSI designation. Under the NRTL Program's policy, any NRTL recognized for a particular test standard may use either the proprietary version of the test standard or the ANSI version of that standard. Contact ANSI to determine whether a test standard is currently ANSI approved.

Preliminary Finding on the Application

CSA submitted an acceptable request for expansion of its recognition as an NRTL. OSHA's review of the application file and other pertinent documents indicates that CSA can meet the requirements, as prescribed by 29 CFR 1910.7, for an expansion of its recognition to include the additional test standards listed above. This preliminary finding does not constitute an interim or temporary approval of the application.

OSHA welcomes public comments, in sufficient detail, as to whether CSA meets the requirements of 29 CFR 1910.7 for expansion of its recognition as a Nationally Recognized Testing Laboratory. Comments should consist of pertinent written documents and exhibits. Commenters needing more time to comment must submit a request in writing, stating the reasons for the request. OSHA must receive the written request for an extension by the due date for comments. OSHA will limit any extension to 15 days unless the requester justifies a longer period. OSHA may deny a request for an extension if it is not adequately justified. To obtain or review copies of CSA's request and other pertinent documents, and all submitted comments, as received, contact the Docket Office, Room N-2625, Occupational Safety and Health Administration, U.S. Department of Labor, at the above address; these materials also are available online at http://www.regulations.gov under Docket No. OSHA-2006-0042.

The NRTL Program staff will review all timely comments and, after addressing the issues raised by these comments, will recommend whether to grant CSA's expansion request. The Assistant Secretary will make the final decision on granting the request, and, in making this decision, may undertake other proceedings that are prescribed in Appendix A to 29 CFR 1910.7. OSHA will publish a public notice of this final decision in the Federal Register.

Authority and Signature

David Michaels, PhD, MPH, Assistant Secretary of Labor for Occupational Safety and Health, 200 Constitution Avenue, NW., Washington, DC 20210, directed the preparation of this notice. Accordingly, the Agency is issuing this notice pursuant to Sections 6(b) and 8(g) of the Occupational Safety and Health Act of 1970 (29 U.S.C. 655 and 657), Secretary of Labor's Order No. 5-2007 (72 FR 31160), and 29 CFR part 1911.

Signed at Washington, DC, on April 20, 2010.
David Michaels,
Assistant Secretary for Occupational Safety and Health.

[FR Doc. 2010-9546 Filed 4-23-10; 8:45 am]

BILLING CODE 4510-26-P